DEPARTMENT OF HEALTH AND HUMAN SERVICES

National Institutes of Health

Proposed Collection; 60-Day Comment Request; Generic Clearance for National Cancer Institute (NCI) NCI Resources, Software and Data Sharing Forms (National Cancer Institute)

AGENCY: National Institutes of Health, HHS.

ACTION: Notice.

SUMMARY: In compliance with the requirement of the Paperwork Reduction Act of 1995 to provide opportunity for public comment on proposed data collection projects, the National Cancer Institute (NCI) will publish periodic summaries of proposed projects to be submitted to the Office of Management and Budget (OMB) for review and approval.

DATES: Comments regarding this information collection are best assured of having their full effect if received within 60 days of the date of this publication.

FOR FURTHER INFORMATION CONTACT: To obtain a copy of the data collection plans and instruments, submit comments in writing, or request more information on the proposed project, contact: Diane Kreinbrink, Office of Management Policy and Compliance, National Cancer Institute, 9609 Medical Center Drive, Rockville, Maryland 208 or call non-toll-free number (240) 276-7283 or Email your request, including your address to: diane.kreinbrink@nih.gov. Formal requests for additional plans and instruments must be requested in writing.

SUPPLEMENTARY INFORMATION: Section 3506(c)(2)(A) of the Paperwork Reduction Act of 1995 requires: Written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimizes the burden of the collection of information on those who are to respond, including the use of appropriate automated, electronic, mechanical, or other technological collection techniques or other forms of information technology.

Proposed Collection Title: Generic Clearance for National Cancer Institute (NCI) NCI Resources, Software and Data Sharing Forms, 0925—EXISTING COLLECTION IN USE WITHOUT AN OMB NUMBER, Expiration Date xx/xx/xxxx, National Cancer Institute (NCI), National Institutes of Health (NIH).

Need and Use of Information Collection: In preparation for dissemination and sharing of data sets, forms requesting or applying for access, upload, share, and store data will be needed. The purpose of data sharing allows data generated from one research study to be used to answer questions beyond the original study. It reinforces open scientific inquiry, encourages diversity of analysis, supports studies on data collection methods and measurement, facilitates the education of new researchers, and enables the exploration of topics not envisioned by the initial investigators. Biomedical researchers and data scientists can use the NCI cloud resources, web interface, and computational workspaces to query, submit data, analyze, and visualize data. The forms would be used to register a scientist's research data, apply for data storage, and submit a request to access and use the data. In addition to these forms, forms related to metadata information (i.e., related to the collection of the research data; how the data was collected) would be collected for some research OMB approval is requested for 3 years. There are no costs to respondents other than their time. The total estimated annualized burden are 5,775 hours.

Estimated Annualized Burden Hours
Form name | Type of respondents | Number of respondents | Number of responses per respondent | Average burden per response (in hours) | Total annual burden hours
Request Data Access/Use
Data Access Request-Submitter | Individuals | 1,500 | 1 | 45/60 | 1,125
Institutional Certification | Individuals | 1,500 | 1 | 30/60 | 750
Data Submission/Storage
Data Submission/Storage Request | Individuals | 1,500 | 1 | 30/60 | 750
Institutional Certification | Individuals | 1,500 | 1 | 30/60 | 750
Request Access to/Use NCI Resources/Software
Data Resources | Individuals | 1,500 | 1 | 30/60 | 750
Project Renewal or Project Close-out
Project Renewal or Project Close-out form | Individuals | 1,500 | 2 | 15/60 | 750
Institutional Certification | Individuals | 1,500 | 2 | 18/60 | 900
Totals |  | 10,500 | 13,500 |  | 5,775

Dated: December 14, 2021.
Diane Kreinbrink,
Project Clearance Liaison, National Cancer Institute, National Institutes of Health.

[FR Doc. 2021-27411 Filed 12-17-21; 8:45 am]

BILLING CODE 4140-01-P